DEPARTMENT OF COMMERCE

International Trade Administration

[A-570-983]

Drawn Stainless Steel Sinks From the People's Republic of China: Preliminary Results and Partial Rescission of Antidumping Duty Administrative Review; 2020-2021

AGENCY: Enforcement and Compliance, International Trade Administration, Department of Commerce.

SUMMARY: The Department of Commerce (Commerce) preliminarily determines that certain companies made sales of subject merchandise at less than normal value. The period of review (POR) is April 1, 2020, through March 31, 2021. Additionally, Commerce is rescinding this review with respect to multiple companies. Interested parties are invited to comment on these preliminary results.

DATES: Applicable August 31, 2021.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On June 11, 2021, Commerce published a notice of initiation of an administrative review of the antidumping duty order drawn stainless steel sinks from the People's Republic of China (China) covering the period April 1, 2020, through March 31, 2021, with respect to 29 companies.¹ Due to a timely withdrawal request, we are rescinding the review with respect to 27 of these companies.² Therefore, the results of this review cover the two remaining companies: Jiangmen New Star Hi-Tech Enterprise Ltd. (New Star) and KaiPing Dawn Plumbing Products, Inc. (KaiPing).

¹ See Initiation of Antidumping and Countervailing Duty Reviews, 86 FR 31282 (June 11, 2021).

² See Petitioner's Letter, “Notice of Partial Withdrawal of Request for Administrative Review,” dated July 13, 2021 (Petitioner's Withdrawal Letter).

Scope of the Order

The products covered by the order include drawn stainless steel sinks from China. Imports of subject merchandise are currently classified under the Harmonized Tariff Schedule of the United States (HTSUS) subheadings 7324.10.0000 and 7324.10.0010. Although the HTSUS subheadings are provided for convenience and customs purposes, the written description of the scope of the order is dispositive.³

³ For a complete description of the scope of the order, see Memorandum, “Decision Memorandum for Preliminary Results of the 2020-2021 Antidumping Duty Administrative Review,” issued concurrently with, and hereby adopted by, this notice (Preliminary Decision Memorandum).

Methodology

Commerce is conducting this review in accordance with section 751(a)(1)(B) of the Tariff Act of 1930, as amended (the Act).

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://enforcement.trade.gov/frn/index.html. A list of topics included in the Preliminary Decision Memorandum is provided as an appendix to this notice.

Partial Rescission of Administrative Review

Section 351.213(d)(1) of Commerce's regulations provides that Commerce will rescind an administrative review, in whole or in part, if all parties that requested a review withdraw their requests for review within 90 days of the publication date of the notice of initiation of the requested review. On July 13, 2021, the petitioner timely withdrew its request for administrative review of the following companies: (1) B&R Industries Limited; (2) Feidong Import and Export Co., Ltd.; (3) Foshan Shunde MingHao Kitchen Utensils Co., Ltd.; (4) Foshan Zhaoshun Trade Co., Ltd.; (5) Franke Asia Sourcing Ltd.; (6) Grand Hill Work Company; (7) Guangdong Dongyuan Kitchenware Industrial Co., Ltd.; (8) Guangdong G-Top Import & Export Co., Ltd.; (9) Guangdong New Shichu Import & Export Company Limited; (10) Guangdong Yingao Kitchen Utensils Co., Ltd.; (11) Hangzhou Heng's Industries Co., Ltd.; (12) Hubei Foshan Success Imp & Exp Co. Ltd.; (13) J&C Industries Enterprise Limited; (14) Jiangmen Hongmao Trading Co., Ltd.; (15) Jiangmen Pioneer Import & Export Co., Ltd.; (16) Jiangxi Zoje Kitchen & Bath Industry Co., Ltd.; (17) Ningbo Afa Kitchen and Bath Co., Ltd./Yuyao Afa Kitchenware Co., Ltd.; (18) Ningbo Oulin Kitchen Utensils Co., Ltd.; (19) Primy Cooperation Limited; (20) Shenzhen Kehauxing Industrial Ltd.; (21) Shunde Foodstuffs Import & Export Company Limited of Guangdong; (22) Shunde Native Produce Import and Export Co., Ltd. of Guangdong; (23) Xinhe Stainless Steel Products Co., Ltd.; (24) Zhongshan Newecan Enterprise Development Cooperation; (25) Zhongshan Silk Imp. & Exp. Group Co., Ltd. of Guangdong; (26) Zhongshan Superte Kitchenware Co., Ltd.; and (27) Zhuhai Kohler Kitchen & Bathroom Products Co. Ltd.⁴ Because all review requests for these companies were timely withdrawn, in accordance with 19 CFR 351.213(d)(1), we are rescinding this review with respect to these companies. The administrative review will continue for the remaining companies for which a review was requested and not withdrawn: KaiPing and New Star.

⁴ See Petitioner's Withdrawal Letter.

China-Wide Entity

In accordance with Commerce's policy, the China-wide entity will not be under review unless a party specifically requests, or Commerce self-initiates, a review of the entity.⁵ Because no party requested a review of the China-wide entity in this review, the entity is not under review, and the entity's rate is not subject to change (i.e., 76.45 percent).⁶

⁵ See Antidumping Proceedings: Announcement of Change in Department Practice for Respondent Selection in Antidumping Duty Proceedings and Conditional Review of the Nonmarket Economy Entity in NME Antidumping Duty Proceedings, 78 FR 65963 (November 4, 2013).

⁶ The China-wide rate determined in the investigation was 76.53 percent. See Drawn Stainless Steel Sinks from the People's Republic of China: Amended Final Determination of Sales at Less Than Fair Value and Antidumping Duty Order, 78 FR 21592 (April 11, 2013). This rate was adjusted for export subsidies and estimated domestic subsidy pass through to determine the cash deposit rate (76.45 percent) collected for companies in China-wide entity. See explanation in Drawn Stainless Steel Sinks from the People's Republic of China: Investigation, Final Determination, 78 FR 13019 (February 26, 2013).

Preliminary Results of Review

Commerce finds that the two respondents remaining in this administrative review, KaiPing and New Star, have not established their eligibility for a separate rate and are considered to be part of the China-wide entity for these preliminary results.

Disclosure and Public Comment

Interested parties may submit case briefs no later than 30 days after the date of publication of this notice.⁷ Rebuttal briefs, limited to issues raised in the case briefs, may be filed no later than seven days after the time limit for filing case briefs.⁸ Parties who submit case brief or rebuttal briefs in this proceeding are encouraged to submit with each argument: (1) A statement of the issue; (2) a brief summary of the argument; and (3) a table of authorities.⁹ Case and rebuttal briefs should be filed using ACCESS.¹⁰

⁷ See 19 CFR 351.309(c).

⁸ See 19 CFR 351.309(d); see also Temporary Rule Modifying AD/CVD Service Requirements Due to COVID-19, 85 FR 17006 (March 26, 2020), and Temporary Rule Modifying AD/CVD Service Requirements Due to COVID-19; Extension of Effective Period, 85 FR 41363 (July 10, 2020) (collectively, Temporary Rule).

⁹ See 19 CFR 351.309(c)(2).

¹⁰ See 19 CFR 351.303.

Pursuant to 19 CFR 351.310(c), interested parties who wish to request a hearing must submit a written request to the Assistant Secretary for Enforcement and Compliance, U.S. Department of Commerce, filed electronically via ACCESS within 30 days after the date of publication of this notice.¹¹ Hearing requests should contain: (1) The party's name, address, and telephone number; (2) the number of participants; and (3) a list of issues to be discussed. Issues raised in the hearing will be limited to issues raised in the briefs. If a request for a hearing is made, parties will be notified of the time and date for the hearing to be held.¹²

¹¹ See 19 CFR 351.310(c).

¹² See 19 CFR 351.310(d).

An electronically-filed document must be received successfully in its entirety by ACCESS by 5:00 p.m. Eastern Time on the established deadline. Note that Commerce has temporarily modified certain of its requirements for serving documents containing business proprietary information, until further notice.¹³

¹³ See 19 CFR 351.309; see also 19 CFR 351.303 (for general filing requirements); and Temporary Rule.

Commerce intends to issue the final results of this administrative review, which will include the results of its analysis of all issues raised in the case briefs, not later than 120 days after the date of publication of this notice, unless otherwise extended.¹⁴

¹⁴ See section 751(a)(3)(A) of the Act.

Assessment Rates

Upon issuance completion of the administrative review, Commerce shall determine, and U.S. Customs and Border Protection (CBP) shall assess, antidumping duties on all appropriate entries covered by this review.¹⁵ For the final results, if we continue to treat KaiPing and New Star as part of the China-wide entity, we will instruct CBP to apply an ad valorem assessment rate of 76.45 percent to all entries of subject merchandise during the POR that were produced and/or exported by KaiPing and New Star.

¹⁵ See 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which we have rescinded this administrative review, antidumping duties shall be assessed at rates equal to the cash deposit of estimated antidumping duties required at the time of entry, or withdrawal from warehouse, for consumption, in accordance with 19 CFR 351.212(c)(1)(i). Commerce intends to issue appropriate assessment instructions directly to CBP no earlier than 35 days after the date of publication of this notice in the Federal Register.

Cash Deposit Requirements

The following cash deposit requirements will be effective upon publication of the final results of this administrative review for all shipments of the subject merchandise from China entered, or withdrawn from warehouse, for consumption on or after the publication date, as provided for by section 751(a)(2)(C) of the Act: (1) For previously investigated or reviewed Chinese and non-Chinese exporters not listed above that have separate rates, the cash deposit rate will continue to be equal to the exporter-specific weighted-average dumping margin published of the most recently-completed segment of this proceeding; (2) for all Chinese exporters of subject merchandise that have not been found to be entitled to a separate rate, the cash deposit rate will be the rate for China-wide entity, 76.45 percent; and (3) for all exporters of subject merchandise which are not located in China and which are not eligible for a separate rate, the cash deposit rate will be the rate applicable to Chinese exporter(s) that supplied that non-Chinese exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping and/or countervailing duties occurred and the subsequent assessment of double antidumping duties.

Notification to Interested Parties

We are issuing and publishing these preliminary results in accordance with sections 751(a)(l) and 777(i)(l) of the Act.

Dated: August 25, 2021.
Christian Marsh,
Acting Assistant Secretary for Enforcement and Compliance.

Appendix

List of Topics Discussed in the Preliminary Decision Memorandum

I. Summary

II. Background

III. Scope of the Order

IV. Discussion of the Methodology

V. Recommendation

[FR Doc. 2021-18755 Filed 8-30-21; 8:45 am]

BILLING CODE 3510-DS-P